DEPARTMENT OF COMMERCE

National Oceanic and Atmospheric Administration

50 CFR Part 622

[Docket No. 120213124-1066-02]

RIN 0648-XC088

Fisheries of the Caribbean, Gulf of Mexico, and South Atlantic; Reef Fish Fishery of the Gulf of Mexico; Extension of the 2012 Gulf of Mexico Recreational Red Snapper Season

AGENCY: National Marine Fisheries Service (NMFS), National Oceanic and Atmospheric Administration (NOAA), Commerce.

ACTION: Temporary rule; extension.

SUMMARY: NMFS extends the recreational fishing season for the red snapper component of the reef fish fishery in the exclusive economic zone (EEZ) of the Gulf of Mexico (Gulf). NMFS previously determined the recreational red snapper quota would be reached by 12:01 a.m., local time, July 11, 2012. However, due to severe weather conditions in the central and northeastern Gulf during the first 26 days in June, fishing opportunities were restricted during the beginning of the recreational fishing season. NMFS has projected the quota will not be reached by the current closure date. Therefore, NMFS is extending the recreational red snapper fishing season for 6 days to allow the remainder of the quota to be harvested. The intent of this action is to provide fishermen the opportunity to harvest the recreational red snapper quota, and the opportunity to achieve the optimum yield for the fishery, thus enhancing social and economic benefits to the fishery.

DATES: The extension is effective from 12:01 a.m., local time, July 11, 2012, until 12:01 a.m., local time, July 17, 2012. The season will then be closed until it reopens on June 1, 2013, the beginning of the 2013 recreational fishing season.

FOR FURTHER INFORMATION CONTACT: Steve Branstetter, 727-824-5305.

SUPPLEMENTARY INFORMATION: The Gulf reef fish fishery is managed under the Fishery Management Plan for the Reef Fish Resources of the Gulf of Mexico (FMP). The FMP was prepared by the Gulf of Mexico Fishery Management Council (Council) and is implemented through regulations at 50 CFR part 622 under the authority of the Magnuson-Stevens Fishery Conservation and Management Act (Magnuson-Stevens Act).

On June 29, 2012, NMFS implemented a recreational quota for Gulf red snapper of 3.959 million lb (1.796 million kg) and a commercial quota of 4.121 million lb (1.869 million kg) through a regulatory amendment (77 FR 31734, May 30, 2012). These quotas are based on the Council's established acceptable biological catch of 8.080 million lb (3.665 million kg) for the 2012 fishing year, and the allocation ratios in the FMP.

The Magnuson-Stevens Act requires NMFS to close the recreational red snapper component of the Gulf reef fish fishery in Federal waters when the quota is met or projected to be met. Based on 2011 recreational landings data, NMFS projected the recreational quota would be met on or by July 10, 2012. Therefore, in the rule that published May 30, 2012 (77 FR 31734), NMFS announced the recreational red snapper fishing season would close at 12:01 a.m., local time, July 11, 2012, which constituted a 40-day fishing season.

Landings and effort data are not available in-season to determine if the quota will be met on July 10, 2012. However, the central and northeastern Gulf experienced severe weather conditions during the first 26 days of the 2012 recreational red snapper fishing season and it is likely that fishing effort and landings are less than projected. In addition to tropical storm Debby in late June, poor weather conditions persisted prior to that time in the central and northeastern Gulf. The majority of recreational harvest in the Gulf comes from the northern and central parts of the Gulf. Weather data from four buys stationed throughout the Gulf were used as proxies for determining days when fishing did not occur or when effort was reduced. Wave heights and wind speeds have been greater in June 2012 than June 2011 for all areas of the Gulf, except Texas. Because of this reduced effort, NMFS has projected the recreational red snapper quota will not be met by the July 11, 2012, closing date. Based on the assumption that weather will improve over the next 2 to 3 weeks and, thus, fishing effort will return to expected rates, NMFS projects the recreational red snapper season can be extended for an additional 6 days, and will close at 12:01 a.m. local time on July 17, 2012. The season will then be closed until 12:01 a.m., local time, June 1, 2013, the beginning of the 2013 recreational fishing season.

During the open period, the bag and possession limit for recreational Gulf red snapper is two fish. However, no red snapper may be retained by the captain and crew of a vessel operating as a charter vessel or headboat. The bag limit for such captain and crew is zero.

During the closed period, the bag and possession limit for recreational Gulf red snapper is zero. A person aboard a vessel for which a Federal charter vessel/headboat permit for Gulf reef fish has been issued, must also abide by these closure provisions in state waters.

Classification

This action responds to the best available information recently obtained from the fishery. The Assistant Administrator for Fisheries, NOAA, (AA), finds good cause to waive the requirement to provide prior notice and opportunity for public comment pursuant to the authority set forth at 5 U.S.C. 553(b)(3)(B). Allowing prior notice and opportunity for public comment on the season extension is unnecessary because the rule establishing the annual quota has already been subject to notice and comment, and all that remains is to notify the public that additional harvest remains in the established quota and, therefore, the fishery will be extended for a limited time.

This rule relieves a restriction by extending the recreational red snapper fishing season. Because it relieves a restriction, this rule is not subject to the 30-day delayed effectiveness provision of the Administrative Procedures Act pursuant to 5 U.S.C. 553(d)(1).

This action is taken under 50 CFR 622.43(a) and is exempt from review under Executive Order 12866.

Authority: 16 U.S.C. 1801 et seq.

Dated: June 29, 2012.
James P. Burgess,
Acting Director, Office of Sustainable Fisheries, National Marine Fisheries Service.

[FR Doc. 2012-16480 Filed 6-29-12; 4:15 pm]

BILLING CODE 3510-22-P